SOCIAL SECURITY ADMINISTRATION

Agency Information Collection Activities: Proposed Request

The Social Security Administration (SSA) publishes a list of information collection packages requiring clearance by the Office of Management and Budget (OMB) in compliance with Public Law 104-13, the Paperwork Reduction Act of 1995, effective October 1, 1995. This notice includes a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget,

Attn: Desk Officer for SSA,

Fax: 202-395-6974,

Email address: OIRA_Submission@omb.eop.gov.

(SSA)

Social Security Administration, OLCA,

Attn: Reports Clearance Director,

3100 West High Rise,

6401 Security Blvd.,

Baltimore, MD 21235,

Fax: 410-966-2830,

Email address: OR.Reports.Clearance@ssa.gov.

The information collection below is pending at SSA. SSA will submit it to OMB within 60 days from the date of this notice. To be sure we consider your comments, we must receive them no later than November 10, 2014. Individuals can obtain copies of the collection instruments by writing to the above email address.

Supplement to Claim of Person Outside the United States -20 CFR 422.505(b), 404.460, 404.463, and 42 CFR 407.27(c)—0960-0051

Claimants or beneficiaries (both United States (U.S.) citizens and aliens entitled to benefits) living outside the United States complete Form SSA-21 as a supplement to an application for benefits. SSA collects the information to determine eligibility for U.S. Social Security benefits for those months an alien beneficiary or claimant is outside the United States, and to determine if tax withholding applies. In addition, SSA uses the information to: (1) Allow beneficiaries or claimants to request a special payment exception in an SSA restricted country; (2) terminate supplemental medical insurance coverage for recipients who request it, because they are, or will be, out of the United States; and (3) allow claimants to collect a lump sum death benefit if the number holder died outside the United States and we do not have information to determine whether the lump sum death benefit is payable under the Social Security Act. The respondents are Social Security claimants, or individuals entitled to Social Security benefits, who are, will be, or have been residing outside the United States. for three months or longer. Type of Request: Revision of an OMB-approved information collection.

Modality of completion | Number of respondents | Frequency of response | Average burden per response (minutes) | Estimated total annual burden (hours)
Paper SSA-21—U.S. Citizens | 3,297 | 1 | 9 | 495
Paper SSA-21—U.S. Resident | 521 | 1 | 15 | 130
MCS Macros SSA-21—U.S. Resident | 1,844 | 1 | 11 | 338
Paper SSA-21—Resident of Tax Treaty Country | 2,863 | 1 | 11 | 525
MCS Macros SSA-21—Resident of Tax Treaty Country | 10,145 | 1 | 6 | 1,015
Paper SSA-21 - Non-Resident Alien (not a resident of a tax treaty country) | 1,995 | 1 | 10 | 333
MCS Macros SSA-21—Non-Resident Alien (not a resident of a tax treaty country) | 7,071 | 1 | 5 | 589
Totals | 27,736 |  |  | 3,425

Dated: September 8, 2014.
Faye Lipsky,
Reports Clearance Director, Social Security Administration.

[FR Doc. 2014-21654 Filed 9-10-14; 8:45 am]

BILLING CODE 4191-02-P